DEPARTMENT OF TRANSPORTATION

Federal Highway Administration

Environmental Impact Statement; Walton County & Bay County

AGENCY: Federal Highway Administration (FHWA), DOT.

ACTION: Notice of intent.

SUMMARY: The FHWA is issuing this notice of cancellation on behalf of the Florida Department of Transportation (FDOT) pursuant to federal law and a Memorandum of Understanding dated December 14, 2016 to advise the public that an Environmental Impact Statement for the proposed SR 388 from SR 79 in Bay County, Florida westward to SR 30 (US 98) in Walton County, Florida (also identified as West Bay Parkway, Segment 1 and CR 388 Segment 1) will no longer be prepared due to the implementation of the Bay-Walton Sector Plan, SAJ-114, and associated biological assessment that was completed for the study area. This is a formal cancellation of the Notice of Intent that was published in the Federal Register on October 4, 2011 (Doc. No. 2011-25360).

FOR FURTHER INFORMATION CONTACT: Mr. Jason Watts, Director, Office of Environmental Management, Florida Department of Transportation, 605 Suwannee Street, MS 37, Tallahassee, FL 32399-0450; Telephone (850) 414-4316.

SUPPLEMENTARY INFORMATION: The Notice of Intent to prepare an EIS was for an extension of SR 388 to the west from its current western terminus at SR 79 and provide a new four-lane divided highway and a new bridge across the Intracoastal Waterway (ICWW). The Notice of Intent to prepare an EIS is rescinded.

(Catalog of Federal Domestic Assistance Program Number 20.205, Highway Research, Planning and Construction. The regulations implementing Executive Order 12372 regarding inter-governmental consultation on Federal programs and activities apply to this program.)

Buddy Cunill,
Environmental Team Leader, Tallahassee, Florida.

[FR Doc. 2017-08910 Filed 5-2-17; 8:45 am]

BILLING CODE 4910-22-P